DEPARTMENT OF DEFENSE

Department of the Army

Availability of U.S. Patent Applications for Non-Exclusive, Exclusive, or Partially Exclusive Licensing

AGENCY: Department of the Army, DoD.

ACTION: Notice of availability.

SUMMARY: In accordance with 35 U.S.C. 209 and 37 CFR part 404, announcement is made of the availability for licensing of the following U.S. Patent Applications for non-exclusive, exclusive, or partially exclusive licensing listed under SUPPLEMENTARY INFORMATION. The inventions listed below have been assigned to the United States Government as represented by the Secretary of the Army, Washington, DC.

FOR FURTHER INFORMATION CONTACT: Mr. John Biffoni, Intellectual Property Attorney, U.S. Army Soldier and Biological Chemical Command, ATTN: AMSSB-CC (Bldg. E4435), Aberdeen Proving Ground, MD 21010-5424, phone: (410) 436-1158, FAX: (410) 436-2534, or e-mail: John.Biffoni@sbccom.apgea.army.mil.

SUPPLEMENTARY INFORMATION:

1. Title: “Compositions and Methods for Enhancing Bioassay Performance.”

Description: This invention relates generally to nanomanipulation and, more particularly, to nanoorientation of antibody-dendrimer conjugates. The compositions of matter and methods of the present invention allow one to construct more sensitive bioassays by improving the orientation of the antibody binding domains within the bioassay at the nanoscopic level.

Patent Application Number: 09/939,884.

Filing Date: 08/27/2001.

2. Title: “Enhancing Protein Activity Through Nanoencapsulation”

Description: This invention deals with nanoencapsulation and nanocapsules, and a method of using these encapsulation systems to enhance protein/enzyme reactivity. The invention uses nanocapsules to protect and enzymes from inactivation in a variety of harsh environments such as extreme temperatures and pH. In addition, it provides a method for using nanoencapsulation to enhance protein/enzyme reactivity in organic solvents. Finally, the invention provides a method of using nanocapsules as controlled-release agents or carries for drug, protein, and vaccine delivery.

Patent Application Number: 09/859,260.

Filed: May 17, 2001.

Luz D. Ortiz,
Army Federal Register Liaison Officer.

[FR Doc. 03-19099 Filed 7-25-03; 8:45 am]

BILLING CODE 3710-08-M